DEPARTMENT OF COMMERCE

Foreign-Trade Zones Board

[B-62-2014]

Foreign-Trade Zone 75—Phoenix, Arizona, Authorization of Production Activity, Orbital Sciences Corporation, (Satellites and Space Craft Launch Vehicles) Gilbert, Arizona

On August 28, 2014, Orbital Sciences Corporation, operator of FTZ 75—Site 10, submitted a notification of proposed production activity to the Foreign-Trade Zones (FTZ) Board for its facility in Gilbert, Arizona.

The notification was processed in accordance with the regulations of the FTZ Board (15 CFR part 400), including notice in the Federal Register inviting public comment (79 FR 53408, 9-9-2014). The FTZ Board has determined that no further review of the activity is warranted at this time. The production activity described in the notification is authorized, subject to the FTZ Act and the FTZ Board's regulations, including Section 400.14.

Dated: December 29, 2014.
Andrew McGilvray,
Executive Secretary.

[FR Doc. 2015-00108 Filed 1-7-15; 8:45 am]

BILLING CODE 3510-DS-P